FEDERAL COMMUNICATIONS COMMISSION

Notice of Public Information Collection(s) Being Reviewed by the Federal Communications Commission for Extension Under Delegated Authority

May 26, 2005.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments August 15, 2005. If you anticipate that you will be submitting comments, but find it difficult to do so within the period of time allowed by this notice, you should advise the contact listed below as soon as possible.

ADDRESSES: Direct all Paperwork Reduction Act (PRA) comments to Judith B. Herman, Federal Communications Commission, 445 12th Street, SW., Room 1-C804, Washington, DC 20554 or via the Internet to Judith-B.Herman@fcc.gov.

FOR FURTHER INFORMATION CONTACT: For additional information or copies of the information collections contact Judith B. Herman at 202-418-0214 or via the Internet at Judith-B.Herman@fcc.gov.

SUPPLEMENTARY INFORMATION: OMB Control No.: 3060-0204.

Title: Section 90.20(a)(2)(v), Physically Handicapped “Special Eligibility Showing”.

Form No.: N/A.

Type of Review: Extension of a currently approved collection.

Respondents: Individuals or households; business or other for profit.

Number of Respondents: 20.

Estimated Time Per Response: .084 hours.

Frequency of Response: On occasion reporting requirement.

Total Annual Burden: 2 hours.

Annual Cost Burden: $1,000.

Privacy Act Impact Assessment: No.

Needs and Uses: Section 90.20(a)(2)(v) provides that persons claiming eligibility in the Special Emergency Radio Service on the basis of being physically handicapped must present a physician's statement indicating that they are disabled. Submission of this information is necessary to ensure that frequencies reserved for licensing to the handicapped individuals are not licensed to non-handicapped persons. Commission personnel use the data to determine the eligibility of applicants to hold a radio station authorization for specific frequencies. If the information is not collected, the Commission has no way to determine eligibility.

OMB Control No.: 3060-0223.

Title: Section 90.129, Supplemental Information to be Routinely Submitted with Applications, Non-Type Accepted Equipment.

Form No.: N/A.

Type of Review: Extension of a currently approved collection.

Respondents: Individuals or households, business or other for profit, not-for-profit institutions, and state, local or tribal government.

Number of Respondents: 100.

Estimated Time Per Response: .33 hours (20 minutes).

Frequency of Response: On occasion reporting requirement.

Total Annual Burden: 34 hours.

Annual Cost Burden: N/A.

Privacy Act Impact Assessment: No.

Needs and Uses: Section 90.129 requires applicants proposing to use transmitting equipment that is not type-certified by FCC laboratory personnel to provide a description of the proposed equipment. This assures that the equipment is capable of performing within certain tolerances that limit the interference potential of the device. This information collected is used by FC engineers to determine the interference potential of the proposed equipment.

OMB Control No.: 3060-0325.

Title: Section 80.605, U.S. Coast Guard Coordination.

Form No.: N/A.

Type of Review: Extension of a currently approved collection.

Respondents: Individuals or households; business or other for profit.

Number of Respondents: 47.

Estimated Time Per Response: 1.1 hours.

Frequency of Response: On occasion reporting requirement and third party disclosure requirement.

Total Annual Burden: 52 hours.

Annual Cost Burden: N/A.

Privacy Act Impact Assessment: No.

Needs and Uses: Section 80.605 is needed to insure that no hazard to marine navigation will result from the grant of applications for non-selectable transponders and shore based radionavigation aids. If this collection were not conducted, stations posing a hazard to marine navigation could be licensed inadvertently and/or long delays in processing of applications could result due to the necessity for coordination between the Commission, the U.S. Coast Guard and the applicant.

OMB Control No.: 3060-0554.

Title: Section 87.199, Special Requirements for 406.025 MHz Emergency Locator Transmitters (ELTs).

Form No.: N/A.

Type of Review: Extension of a currently approved collection.

Respondents: Individuals or households; business or other for profit.

Number of Respondents: 500.

Estimated Time Per Response: .084 hours.

Frequency of Response: On occasion reporting requirement and third party disclosure requirement.

Total Annual Burden: 42 hours.

Annual Cost Burden: N/A.

Privacy Act Impact Assessment: No.

Needs and Uses: Section 87.199 requires owners of 406.025 MHz Emergency Locator Transmitters (ELTs) to register information such as name, address, and type of vessel with the National Oceanic and Atmospheric Administration (NOAA). The information would be used by search and rescue personnel to identify the aircraft in distress and to select the proper rescue units and search methods. The information is used by NOAA to maintain a database used to provide information about the owner of an activated ELT of an aircraft in distress. If the collection were not conducted, NOAA would not have access to this information which would increase the time needed to complete a search and rescue operation.

OMB Control No.: 3060-0556.

Title: Section 80.1061, Special Requirements for 406.025 MHz Emergency Position Indicting Radio Beacons (EPIRBs).

Form No.: N/A.

Type of Review: Extension of a currently approved collection.

Respondents: Individuals or households; business or other for profit.

Number of Respondents: 9,500.

Estimated Time Per Response: .084 hours.

Frequency of Response: On occasion reporting requirement and third party disclosure requirement.

Total Annual Burden: 798 hours.

Annual Cost Burden: N/A.

Privacy Act Impact Assessment: No.

Needs and Uses: Section 80.1061 requires owners of 406.025 MHz Emergency Position Indicating Radio Beacons (EPIRBs) to register information such as name, address, and type of vessel with the National Oceanic and Atmospheric Administration (NOAA). Additionally, the radio beacon must be certified by a test facility recognized by the U.S. Coast Guard to certify that the equipment complies with the U.S. Coast Guard environmental and operational requirements associated with the test procedures described in Appendix A of the RTCM Recommended Standards. If the collection of information were not conducted, NOAA would not have access to this information which would increase the time needed to complete a search and rescue operation.

OMB Control No.: 3060-0695.

Title: Section 87.219, Automatic Operations.

Form No.: N/A.

Type of Review: Extension of a currently approved collection.

Respondents: Business or other for profit.

Number of Respondents: 50.

Estimated Time Per Response: 0.7 hours.

Frequency of Response: On occasion reporting requirement, recordkeeping requirement and third party disclosure requirement.

Total Annual Burden: 35 hours.

Annual Cost Burden: $6,000.

Privacy Act Impact Assessment: N/A.

Needs and Uses: This rule section requires that if airports have control towers or Federal Aviation Administration (FAA) flight service stations, and should more than one licensee want to have an automated aeronautical advisory station (“unicom”), the licensees must write an agreement outlining who will be responsible for the unicom's operation, sign the agreement, and keep a copy of the agreement with each licensee's station authorization. The information will be used by compliance personnel for enforcement purposes and by licensees to clarify responsibility in operating unicom.

OMB Control No.: 3060-0882.

Title: Section 95.833, Construction Requirements.

Form No.: N/A.

Type of Review: Extension of a currently approved collection.

Respondents: Individuals or households; business or other for profit.

Number of Respondents: 1,468.

Estimated Time Per Response: 1 hour.

Frequency of Response: Every 10 year reporting requirement.

Total Annual Burden: 1,468 hours.

Annual Cost Burden: N/A.

Privacy Act Impact Assessment: No.

Needs and Uses: Section 95.833 requires each 218-219 MHz service system license to file a report after ten years of the license grant to demonstrate that the licensee provides substantial service to its service areas. The information is used by Commission staff to assess compliance with 218-219 MHz service construction requirements, and to provide adequate spectrum for the service. This will facilitate spectrum efficiency and competition by the 218-219 MHz service licensees in the wireless marketplace. Without this information, the Commission would not be able to carry out its statutory responsibilities.

OMB Control No.: 3060-0987.

Title: 911 Callback Capability; Non-initialized Phones.

Form No.: N/A.

Type of Review: Extension of a currently approved collection.

Respondents: Business or other for profit, and state, local or tribal government.

Number of Respondents: 3,137.

Estimated Time Per Response: 1-3 hours.

Frequency of Response: One time reporting requirement and third party disclosure requirement.

Total Annual Burden: 4,885 hours.

Annual Cost Burden: $661,125.

Privacy Act Impact Assessment: N/A.

Needs and Uses: The labeling requirement, education requirement, and software/coding requirement are all needed to make all parties involved in emergency calls originating from non-initialized and “911 only” phones aware that the calling party cannot be reached for further information. This is necessary to advise the public and emergency workers of this limitation, and to advise them in using such phones in emergency situations to provide as much critical location information must be supplied to the Public Safety Answering Points (PSAPs) as quickly as possible in the originating call.

Federal Communications Commission.
Marlene H. Dortch,
Secretary.

[FR Doc. 05-11540 Filed 6-14-05; 8:45 am]

BILLING CODE 6712-01-P